DEPARTMENT OF AGRICULTURE

Forest Service

Olympic Provincial Interagency Executive Committee (PIEC) Advisory Committee

AGENCY: Forest Service, USDA.

ACTION: Notice of meeting.

SUMMARY: The Olympic PIEC Advisory Committee will meet on May 11, 2001. The meeting will be held at the Jamestown S'Klallam Tribal Center's conference room, 1033 Old Blyn Highway, Sequim, Washington. The meeting will begin at 9:00 AM and end at approximately 3:30 PM. Agenda topics are: (1) Introductions of new committee members and brief Forest update; (2) adaptive management area process; (3) Northwest Forest Plan monitoring report; (4) road management video; (5) Rural Schools and Community Self-Determination Act of 2000; (6) Olympic Province Advisory Committee work plan and goals; (7) Open forum; and (8) Public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd. Olympia, WA 98512-5623, (360) 956-2323 or Dale Hom, Forest Supervisor, at (360) 956-2301.

Dated: April 11, 2001.
Luis E. Santoyo,
Operations Staff, Acting Forest Supervisor, Olympic National Forest.

[FR Doc. 01-9781 Filed 4-20-01; 8:45 am]

BILLING CODE 3410-KE-M